FEDERAL COMMUNICATIONS COMMISSION

Notice of Public Information Collection(s) Being Reviewed by the Federal Communications Commission, Comments Requested

January 13, 2005.

SUMMARY: The Federal Communications Commission, as part of its continuing effort to reduce paperwork burden invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information subject to the Paperwork Reduction Act that does not display a valid control number. Comments are requested concerning (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before March 22 2005.

If you anticipate that you will be submitting comments, but find it difficult to do so within the period of time allowed by this notice, you should advise the contact listed below as soon as possible.

ADDRESSES: Direct all Paperwork Reduction Act (PRA) comments to Cathy Williams, Federal Communications Commission, Room 1-C823, 445 12th Street, SW., Washington, DC 20554 or via the Internet to Cathy.Williams@fcc.gov.

FOR FURTHER INFORMATION CONTACT: For additional information or copies of the information collection(s), contact Cathy Williams at (202) 418-2918 or via the Internet at Cathy.Williams@fcc.gov.

SUPPLEMENTARY INFORMATION: OMB Control Number: 3060-0932.

Title: Application for Authority to Make Changes in a Class A TV Broadcast Station.

Form Number: FCC Form 301-CA.

Type of Review: Revision of a currently approved collection.

Respondents: Business or other for-profit entities; not-for-profit institutions; State, local or tribal government.

Number of Respondents: 650.

Estimated Time per Response: 15-20 hours.

Frequency of Response: On occasion reporting requirement.

Total Annual Burden: 4,550 hours.

Total Annual Cost: $3,703,700.

Privacy Impact Assessment: No impact(s).

Needs and Uses: The FCC Form 301-CA is to be used in all cases by a Class A television station licensees seeking to make changes in the authorized facilities of such station. The FCC Form 301-CA requires applicants to certify compliance with certain statutory and regulatory requirements. Detailed instructions provide additional information regarding Commission rules and policies.

On September 9, 2004, the Commission adopted a Report and Order, In the Matter of Parts 73 and 74 of the Commission's Rules to Established Rules for Digital Low Power Television, Television Translator, and Television Booster Stations and to Amend Rules for Digital Class A Television Stations, FCC 04-220, MB Docket Number 03-185. To implement these amendments, the Commission is revising FCC Form 301-CA to allow licensees to use the revised FCC Form 301-CA to file for digital broadcast stations or conversion of their existing analog stations to digital.

Class A applicants are also subject to third party disclosure requirement of § 3.3580 which requires local public notice in a newspaper of general circulation of the filing of all applications for major changes in facilities. This notice must be completed within 30 days of the tendering of the application. This notice must be published at least twice a week for two consecutive weeks in a three-week period. A copy of this notice must be placed in the public inspection file along with the application.

The FCC Form 301-CA is designed to track the standards and criteria which the Commission applies to determine compliance and to increase the reliability of applicant certifications. FCC Form 301-CA is not intended to be a substitute for familiarity with the Communications Act and the Commission's regulations, policies, and precedent.

OMB Control Number: 3060-0016.

Title: Application for Authority to Construct or Make Changes to a Low Power TV, TV Translator, or TV Booster Station.

Form Number: FCC Form 346.

Type of Review: Revision of a currently approved collection.

Respondents: Business or other for-profit entities; not-for-profit institutions; State, local or tribal government.

Number of Respondents: 4,500.

Estimated Time per Response: 7 hours.

Frequency of Response: On occasion reporting requirement; third party disclosure requirement.

Total Annual Burden: 31,500 hours.

Total Annual Cost: $13,491,000.

Privacy Impact Assessment: No impact(s).

Needs and Uses: Licensees/permittees/applicants use FCC Form 346 to apply for authority to construct or make changes in a Low Power Television, TV Translator, or TV Booster broadcast station. On September 9, 2004, the Commission adopted a Report and Order, In the Matter of Parts 73 and 74 of the Commission's Rules to Established Rules for Digital Low Power Television, Television Translator, and Television Booster Stations and to Amend Rules for Digital Class A Television Stations, MB Docket Number 03-185, FCC 04-220. To implement the new rules, the Commission is revising FCC Form 346 to allow licensees/permittees/applicants to use the revised FCC Form 346 to file for digital broadcast stations or for conversion of their existing analog stations to digital.

On May 13, 2002, the Commission released Public Notice DA 02-1087 announcing the mandatory electronic filing of FCC Form 346.

Applicants are also subject to the third party disclosure requirements under 47 CFR 73.3580. Within 30 days of tendering the application, the applicant is required to publish a notice in a newspaper of general circulation when filing all applications for new or major changes in facilities—the notice is to appear at least twice a week for two consecutive weeks in a three-week period. A copy of this notice must be maintained with the application. FCC staff use the data to determine if the applicant is qualified, meets basic statutory and treaty requirements, and will not cause interference to other authorized broadcast services.

Federal Communications Commission.
Marlene H. Dortch,
Secretary.

[FR Doc. 05-1163 Filed 1-19-05; 8:45 am]

BILLING CODE 6712-10-P